DEPARTMENT OF COMMERCE

National Oceanic Atmospheric Administration

Alaska Coastal Management Program Withdrawal From the National Coastal Management Program Under the Coastal Zone Management Act (CZMA)

AGENCY: Office of Ocean and Coastal Resource Management (OCRM), National Ocean Service (NOS), National Oceanic Atmospheric Administration (NOAA), Department of Commerce (Commerce).

ACTION: Notice.

SUMMARY: By operation of Alaska State law, the federally approved Alaska Coastal Management Program expired on July 1, 2011, resulting in a withdrawal from participation in the CZMA's National Coastal Management Program. The CZMA Federal consistency provision, section 307, no longer applies in Alaska. In addition, Alaska is no longer eligible for CZMA grants under sections 306, 306A, 308, 309 or 310. (CZMA section 315 grants are not affected.)

FOR FURTHER INFORMATION CONTACT: Ms. Joelle Gore, Chief, Coastal Programs Divisions, Office of Ocean and Coastal Resource Management, NOAA, at 301-563-1177.

SUPPLEMENTARY INFORMATION: The Alaska Coastal Management Program (ACMP) was approved by NOAA in 1979 as a voluntary state partner in the National Coastal Management Program. The ACMP expired by operation of Alaska Statutes 44.66.020 and 44.66.030 on June 30, 2011. As a result of its expiration, the ACMP was withdrawn from this program on July 1, 2011. As of July 1, 2011, there is no longer a CZMA program in Alaska. Because a federally approved coastal management program must be administered by a state agency, no other entity may develop or implement a federally approved coastal management program for the state.

As of July 1, 2011, the CZMA Federal consistency provision no longer applies in Alaska. Federal agencies shall no longer provide the State of Alaska with CZMA Consistency Determinations or Negative Determinations pursuant to 16 U.S.C. 1456(c)(1) and (2), and 15 CFR part 930, subpart C. Persons or applicant agencies for Federal authorizations or funding shall no longer provide to the State of Alaska CZMA Consistency Certifications pursuant to 16 U.S.C. 1456(c)(3)(A), (B) and (d), and 15 CFR part 930, subparts D, E and F. Because the CZMA Federal consistency provisions no longer apply in Alaska, consistency determinations from Federal agencies and consistency certifications from applicants for Federal authorizations or funding that are currently pending ACMP response are no longer required to receive a response from the ACMP and may proceed in accordance with other applicable law and procedures.

The Deepwater Port Act (33 U.S.C. 1501-1524) requires a state to have, or be making progress toward, a federally approved CZMA management program in order to issue a license for a facility in adjacent Federal waters. (Note: this only applies to “deepwater ports” in Federal waters, and does not apply to deep-draft ports in state waters or to offshore oil and gas extraction under the Outer Continental Shelf Lands Act.) The withdrawal of the ACMP from the National CZMA program affects the eligibility of licensees seeking to locate facilities in Federal waters adjacent to Alaska under the Deepwater Port Act.

Additionally, Alaska no longer qualifies for grants under the Coastal and Estuarine Land Conservation Program (CELCP)—unless they are accepted through, and support, the Kachemak Bay National Estuarine Research Reserve, which is not affected by the termination of the ACMP.

Dated: July 1, 2011.
David M. Kennedy,
Assistant Administrator for Oceans and Coastal Zone Management.

[FR Doc. 2011-16987 Filed 7-6-11; 8:45 am]

BILLING CODE 3510-08-P